DEPARTMENT OF ENERGY

Federal Energy Regulatory Commission

Combined Notice of Filings #2

Docket Numbers: ER10-1936-008; ER14-2499-004.

Applicants: Carville Energy LLC, Oneta Power, LLC.

Description: Notice of Change in Status of Carville Energy LLC, et al.

Filed Date: 12/20/19.

Accession Number: 20191220-5414.

Comments Due: 5 p.m. ET 1/10/20.

Docket Numbers: ER10-2727-005; ER10-1469-006; ER13-785-005; ER10-1453-006; ER13-713-005; ER10-1459-010; ER10-2728-007; ER10-1451-005; ER10-1474-005; ER10-2687-005; ER10-1467-006; ER10-1478-007; ER10-1473-005; ER10-2688-008; ER10-1468-006; ER10-2689-008.

Applicants: Allegheny Energy Supply Company, LLC, The Cleveland Electric Illuminating Company, Green Valley Hydro, LLC, Jersey Central Power & Light Company, Metropolitan Edison Company, Monongahela Power Company, Ohio Edison Company, Pennsylvania Electric Company, Pennsylvania Power Company, Potomac Edison Company, The Toledo Edison Company, West Penn Power Company, FirstEnergy Generation, LLC, FirstEnergy Generation Mansfield Unit 1, Corp., FirstEnergy Nuclear Generation, LLC, FirstEnergy Solutions Corp.

Description: Triennial Market Power Update Analysis of the FirstEnergy Companies, et al.

Filed Date: 12/20/19.

Accession Number: 20191220-5405.

Comments Due: 5 p.m. ET 2/18/20.

Docket Numbers: ER11-47-011; ER12-1540-009; ER12-1541-009; ER12-1542-009; ER12-1544-009; ER17-1930-003; ER17-1931-003; ER17-1932-003; ER14-594-013; ER11-46-014; ER11-41-011; ER12-2343-009; ER13-1896-015; ER16-323-007.

Applicants: Appalachian Power Company, Indiana Michigan Power Company, Kentucky Power Company, Kingsport Power Company, Wheeling Power Company, Public Service Company of Oklahoma, AEP Texas Inc., Southwestern Electric Power Company, Ohio Power Company, AEP Energy Partners, Inc., AEP Retail Energy Partners LLC, AEP Energy, Inc., AEP Generation Resources Inc., Ohio Valley Electric Corporation.

Description: Updated Market Power Analysis in the Northeast Region of the AEP MBR Affiliates, et al.

Filed Date: 12/23/19.

Accession Number: 20191223-5171.

Comments Due: 5 p.m. ET 2/21/20.

Docket Numbers: ER18-1122-001.

Applicants: Ameren Illinois Company.

Description: Compliance filing of Ameren Illinois Company.

Filed Date: 12/20/19.

Accession Number: 20191220-5407.

Comments Due: 5 p.m. ET 1/10/20.

Docket Numbers: ER19-2529-002.

Applicants: Black Hills Wyoming, LLC.

Description: Tariff Amendment: Response to November 25, 2019 Staff Letter to be effective 10/2/2019.

Filed Date: 12/23/19.

Accession Number: 20191223-5166.

Comments Due: 5 p.m. ET 1/13/20.

Docket Numbers: ER19-2708-001.

Applicants: PJM Interconnection, L.L.C.

Description: Compliance filing: Compliance filing per the Commission's 11/25/2019 order in Docket No. ER19-2708 to be effective 11/27/2019.

Filed Date: 12/23/19.

Accession Number: 20191223-5094.

Comments Due: 5 p.m. ET 1/13/20.

Docket Numbers: ER20-335-000.

Applicants: McKenzie Electric Cooperative, Inc.

Description: Supplement to November 7, 2019 McKenzie Electric Cooperative, Inc. tariff filing.

Filed Date: 12/20/19.

Accession Number: 20191220-5349.

Comments Due: 5 p.m. ET 1/10/20.

Docket Numbers: ER20-673-000.

Applicants: BP Energy Company.

Description: § 205(d) Rate Filing: Category 1 Filing for the Northwest Region to be effective 12/31/2019.

Filed Date: 12/23/19.

Accession Number: 20191223-5011.

Comments Due: 5 p.m. ET 1/13/20.

Docket Numbers: ER20-674-000.

Applicants: PJM Interconnection, L.L.C.

Description: § 205(d) Rate Filing: Allocation of Penalty Costs Assoc. with NERC Penalty Assessments re OA, Sch. 11 to be effective 3/29/2019.

Filed Date: 12/23/19.

Accession Number: 20191223-5051.

Comments Due: 5 p.m. ET 1/13/20.

Docket Numbers: ER20-675-000.

Applicants: Buckeye Power, Inc., PJM Interconnection, L.L.C.

Description: § 205(d) Rate Filing: Revised SA No. 4753—NITSA among PJM and Buckeye Power, Inc. to be effective 12/1/2019.

Filed Date: 12/23/19.

Accession Number: 20191223-5076.

Comments Due: 5 p.m. ET 1/13/20.

Docket Numbers: ER20-676-000.

Applicants: Tri-State Generation and Transmission Association, Inc.

Description: § 205(d) Rate Filing: Resubmittal of Stated Rate Tariff to be effective 3/23/2020.

Filed Date: 12/23/19.

Accession Number: 20191223-5082.

Comments Due: 5 p.m. ET 1/13/20.

Docket Numbers: ER20-677-000.

Applicants: American Transmission Systems, Incorporated, PJM Interconnection, L.L.C.

Description: § 205(d) Rate Filing: ATSI submits one ECSA, Service Agreement No. 5443 with Toledo Edison to be effective 2/21/2020.

Filed Date: 12/23/19.

Accession Number: 20191223-5101.

Comments Due: 5 p.m. ET 1/13/20.

Docket Numbers: ER20-678-000.

Applicants: Trans Bay Cable LLC.

Description: § 205(d) Rate Filing: Annual TRBAA Filing to be effective 1/1/2020.

Filed Date: 12/23/19.

Accession Number: 20191223-5129.

Comments Due: 5 p.m. ET 1/13/20.

Docket Numbers: ER20-679-000.

Applicants: Equilon Enterprises LLC.

Description: § 205(d) Rate Filing: Request for Cat. 1 Seller Status in the NW Region & Revised MBR Tariff to be effective. 12/24/2019.

Filed Date: 12/23/19.

Accession Number: 20191223-5183.

Comments Due: 5 p.m. ET 1/13/20.

Docket Numbers: ER20-680-000.

Applicants: AEP Texas Inc.

Description: § 205(d) Rate Filing: AEPTX-Taylor EC-Golden Spread EC Interconnection Agreement 4th A&R to be effective 3/13/2019.

Filed Date: 12/23/19.

Accession Number: 20191223-5185.

Comments Due: 5 p.m. ET 1/13/20.

Docket Numbers: ER20-681-000.

Applicants: Tri-State Generation and Transmission Association, Inc.

Description: § 205(d) Rate Filing: Resubmittal of Tri-State's Market-Based Rate Tariff to be effective 3/23/2020.

Filed Date: 12/23/19.

Accession Number: 20191223-5192.

Comments Due: 5 p.m. ET 1/13/20.

Docket Numbers: ER20-682-000.

Applicants: Thermo Cogeneration Partnership, L.P.

Description: § 205(d) Rate Filing: Resubmittal of Thermo Cogeneration Market-Based Rate to be effective 3/23/2020.

Filed Date: 12/23/19.

Accession Number: 20191223-5196.

Comments Due: 5 p.m. ET 1/13/20.

Take notice that the Commission received the following qualifying facility filings:

Docket Numbers: QF20-424-000.

Applicants: Regents of the University of Minnesota.

Description: Form 556 of Regents of the University of Minnesota [South East Plant].

Filed Date: 12/20/19.

Accession Number: 20191220-5409.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2019.
Nathaniel J. Davis, Sr.,
Deputy Secretary.

[FR Doc. 2019-28254 Filed 12-30-19; 8:45 am]

BILLING CODE 6717-01-P